DEPARTMENT OF COMMERCE

[Docket No. 050125015-5015-01]

Privacy Act Altered System of Records

AGENCY: Department of Commerce.

ACTION: Notice; Commerce/Department-18; Employees Personnel Files Not Covered by Notices of Other Agencies.

SUMMARY: The Department of Commerce (Commerce) publishes this notice to announce the effective date of a Privacy Act System of Records notice entitled Commerce/Department-18; Employees Personnel Files Not Covered by Notices of Other Agencies.

DATES: The system of records becomes effective on February 3, 2005.

ADDRESSES: For a copy of the system of records please mail requests to Curtina Smith, U.S. Department of Commerce, Room 6422, 1401 Constitution Avenue, NW., Washington, D.C. 20230, 202-482-4186.

FOR FURTHER INFORMATION CONTACT: Curtina Smith, U.S. Department of Commerce, Room 6422, 1401 Constitution Ave., NW., Washington, DC 20230.

SUPPLEMENTARY INFORMATION: On September 27, 2004, the Commerce published and requested comments on a proposed Privacy Act System of Records notice entitled Commerce/Department-18; Employees Personnel Files Not Covered by Notices of Other Agencies. No comments were received in response to the request for comments. By this notice, the Department is adopting the proposed system as final without changes effective February 3, 2005.

Dated: January 27, 2005.
Brenda Dolan,
U.S. Department of Commerce, Freedom of Information/Privacy Act Officer.

[FR Doc. 05-2050 Filed 2-2-05; 8:45 am]

BILLING CODE 3510-03-P